ENVIRONMENTAL PROTECTION AGENCY

40 CFR Part 300

[EPA-HQ-SFUND-2005-0011; FRL-9902-29-Region 4]

National Oil and Hazardous Substances Pollution Contingency Plan; National Priorities List: Deletion of the Geiger (C&M Oil) Superfund Site

AGENCY: Environmental Protection Agency (EPA).

ACTION: Direct final rule.

SUMMARY: The Environmental Protection Agency (EPA) Region 4 is publishing a direct final Notice of Deletion of the Geiger (C&M Oil), Superfund Site (Site), located in Hollywood, Charleston County, South Carolina, from the National Priorities List (NPL). The NPL, promulgated pursuant to section 105 of the Comprehensive Environmental Response, Compensation, and Liability Act (CERCLA) of 1980, as amended, is an appendix of the National Oil and Hazardous Substances Pollution Contingency Plan (NCP). This direct final deletion is being published by EPA with the concurrence of the State of South Carolina, through the South Carolina Department of Health and Environmental Control (SCDHEC), because EPA has determined that all appropriate response actions under CERCLA, other than operation, maintenance, and five-year reviews have been completed. However, this deletion does not preclude future actions under Superfund.

DATES: This direct final deletion is effective January 6, 2014 unless EPA receives adverse comments by December 5, 2013. If adverse comments are received, EPA will publish a timely withdrawal of the direct final deletion in the Federal Register informing the public that the deletion will not take effect.

ADDRESSES: Submit your comments, identified by Docket ID no. EPA-HQ-SFUND-2005-0011; by one of the following methods:

• http://www.regulations.gov. Follow on-line instructions for submitting comments.

• Email: Joyner.William@EPA.gov and/or Miller.Angela@EPA.gov.

• Fax: (404) 562-8788 Attention: William Joyner.

• Mail: William Joyner, Remedial Project Manager, Superfund Remedial Section A, Superfund Remedial and Site Evaluation Branch, Superfund Division, U.S. Environmental Protection Agency, Region 4, 61 Forsyth Street SW., Atlanta, GA 30303-8960.

• Hand delivery: U.S. Environmental Protection Agency, Region 4, 61 Forsyth Street SW., Atlanta, Georgia 30303-8960. Such deliveries are only accepted during the Docket's normal hours of operation, and special arrangements should be made for deliveries of boxed information. The Regional EPA Office is open for business Monday through Friday, 8:30 a.m. to 4:00 p.m., excluding Federal Holidays.

Instructions: Direct your comments to Docket ID no. EPA-HQ-SFUND-2005-0011. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statue. Certain other material, such as copyrighted material, will be publicly available only in the hard copy. Publicly available docket materials are available either electronically at http://www.regulations.gov, or in hard copy at: Regional Site Information Repository, U.S. EPA Record Center, Attn: Ms. Anita Davis, Atlanta Federal Center, 61 Forsyth Street SW., Atlanta, Georgia 30303-8960.

Hours of Operation (by appointment only): 8:30 a.m. to 4:00 p.m., Monday through Friday. Local Document Repository, St. Paul's Parish Library, 5151 Town Council Drive, Hollywood, SC 29449.

FOR FURTHER INFORMATION CONTACT: William Joyner, Remedial Project Manager, Superfund Remedial, Section A; Superfund Remedial and Site Evaluation Branch, Superfund Division; U.S. Environmental Protection Agency, Region 4; 61 Forsyth Street SW.; Atlanta, GA 30303-8960, Telephone, or VM (404) 562-8795, Electronic mail: Joyner.William@epa.gov.

SUPPLEMENTARY INFORMATION:

Table of Contents

I. Introduction

II. NPL Deletion Criteria

III. Deletion Procedures

IV. Basis for Site Deletion

V. Deletion Action

I. Introduction

EPA Region 4 is publishing this direct final Notice of Deletion of the Geiger (C&M Oil) Superfund Site (Site), from the National Priorities List (NPL). The NPL constitutes Appendix B of 40 CFR part 300, which is the Oil and Hazardous Substances Pollution Contingency Plan (NCP), which EPA promulgated pursuant to section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in 300.425(e)(3) of the NCP, sites deleted from the NPL remain eligible for Fund-financed remedial actions if future conditions warrant such actions.

Because EPA considers this action to be noncontroversial and routine, this action will be effective January 6, 2014 unless EPA receives adverse comments by December 5, 2013. Along with this direct final Notice of Deletion, EPA is co-publishing a Notice of Intent to Delete in the “Proposed Rules” section of the Federal Register. If adverse comments are received within the 30-day public comment period on this deletion action, EPA will publish a timely withdrawal of this direct final Notice of Deletion before the effective date of the deletion, and the deletion will not take effect. EPA will, as appropriate, prepare a response to comments and continue with the deletion process on the basis of the Notice of Intent to Delete and the comments already received. There will be no additional opportunity to comment.

Section II of this document explains the criteria for deleting sites from the NPL. Section III discusses procedures that EPA is using for this action. Section IV discusses the Geiger (C&M Oil) Superfund Site and demonstrates how it meets the deletion criteria. Section V discusses EPA's action to delete the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the state, whether any of the following criteria have been met:

i. Responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

Pursuant to CERCLA section 121(c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to deletion of the Site:

(1) EPA consulted with the state of South Carolina prior to developing this direct final Notice of Deletion and the Notice of Intent to Delete co-published today in the “Proposed Rules” section of the Federal Register.

(2) EPA has provided the state 30 working days for review of this notice and the parallel Notice of Intent to Delete prior to their publication today, and the state, through the South Carolina Department of Health and Environmental Control, has concurred on the deletion of the Site from the NPL.

(3) Concurrently with the publication of this direct final Notice of Deletion, a notice of the availability of the parallel Notice of Intent to Delete is being published in a major local newspaper, Post and Courier. The newspaper notice announces the 30-day public comment period concerning the Notice of Intent to Delete the Site from the NPL.

(4) EPA placed copies of documents supporting the proposed deletion in the deletion docket and made these items available for public inspection and copying at the Site information repositories identified above.

(5) If adverse comments are received within the 30-day public comment period on this deletion action, EPA will publish a timely notice of withdrawal of this direct final Notice of Deletion before its effective date and will prepare a response to comments and continue with the deletion process on the basis of the Notice of Intent to Delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Background

The Geiger (C&M Oil) Site (EPA CERCLIS Identification Number SCD980711279) is located approximately 10 miles west of the city of Charleston, South Carolina, along Highway 162. The town of Hollywood is located approximately 4 miles west of the site. The Site consist of an affected area that is approximately 1.5 acres in size, triangular in shape and is bound on two sides by ponds, and on the third side by a small rise. The area around the Site is sparsely populated with approximately ten residences located west and southwest of the site. Another 10 residences are located to the east and north east with several small businesses within (0.5) miles of the site along Highway 162. Between 1969 and 1971, eight unlined lagoons, each approximately 1 foot deep for a combined area of 1.5 acres were constructed for the purpose of holding waste oil in connection with an incineration process.

In late 1971, in response to complaints from area residents, South Carolina Pollution Control Agency (SCPCA) ordered the stoppage of all incineration and waste deposition activities at the Site and the owner was directed to take action to prevent the spillage, leakage, or seepage of oil from the Site. In April 1974, a complaint was filed by a nearby property owner with the Charleston County Health Department (CCHD) about oil overflowing from the lagoons on the Site. CCHD investigated the Site and ordered the Site closed because of evidence of oil dumping and overflowing oil. C&M Oil Distributors, Inc. then purchased all reclaimable oil on the Site and submitted recovery plans to SCDHEC, formerly SCPCA, but reportedly received no response to their plans. In December 1979, SCDHEC requested that the company provide information on their intentions to clean up the Site. C&M Oil Distributors, Inc. stated in January 1980 that they were unable to recover the waste oil and were not obligated to clean up the Site. Investigations of Site activities revealed evidence of oil dumping and oil overflowing from lagoons on site. The facility was ordered to stop all incineration and waste disposition activities at the site and action be taken to prevent spillage, leakage, and seepage of oil from the Site.

Remedial Investigation and Feasibility Study (RI/FS)

Samples collected during the remedial investigation provide sufficient data to characterize the Site. Results of laboratory analysis revealed the presence of inorganic contaminants (chromium, mercury and lead) in the soil in concentrations exceeding the common ranges for these metals in soils. The highest concentrations were found in the oil stained area confirming that this area is the contaminant source. The laboratory found no organic contaminants in the soil samples taken from the oil stained area. The laboratory found several organics in the shallow and medium on site monitor well samples. Elevated levels of metals and organics were found in samples taken from the oil stained area and analyzed by the Contract Laboratory Program (CLP) . Some of these same organics were found in the shallow on-site monitor well. The laboratory samples of the surface waters were free of any organic contamination. Evidence of polychlorinated biphenyl-1242 (PCB-1242) and petroleum products was found in several surface water samples by the CLP laboratory. Private wells to the north, east and southwest of the site were found to be free of contamination. Ground water contamination appears to be limited to the oil stained area. Based on the local laboratory results, ground water contamination has not moved from the Site. The results from the CLP sample analysis support these conclusions. Based on air monitoring during the RI, organic air contamination was not found to be a problem. The final feasibility study dated July 1987 provided an in-depth summary and discussion of site sampling activities, and an analysis of remedial alternatives. The feasibility study provided an analysis of extraction (soil) flushing, solidification/stabilization, attenuation, immobilization, incineration, capping, vegetative cover, excavation and offsite disposal, partial excavation with onsite disposal, onsite containment/encapsulation and no action remedial alternatives.

Selected Remedy

A Record of Decision (ROD) was signed in June 1987, and two ROD amendments (AROD) were signed; one in July 1993 and the second in September 1998. The purpose of the remedial action at the Site was to mitigate and minimize contamination in the soils and ground water and to reduce potential risks to human health and the environment. The following cleanup objectives were determined based on regulatory requirements and levels of contamination found at the Site:

• Recovering contaminated ground water with on-site treatment and discharge to an off-site stream;

• protecting public health and the environment from exposure to contaminated on-site soils through inhalation, direct contact, and erosion of soils into surface waters and wetlands;

• preventing off-site movement of contaminated ground water; and

• restoring contaminated ground water to levels protective of human health and the environment.

The 1987 ROD selected a remedial alternative to prevent direct contact exposure and inhalation of contaminants in the soil, potential ingestion of contaminated ground water by on-site workers and potential future residents; further leaching of contaminants to ground water above drinking water standards; and potential direct contact exposure to environmental receptors. The selected remedy included:

• Recovery of contaminated ground water with on-site treatment and discharge to an off-site stream;

• on-site thermal treatment of excavated soils to remove organic contaminants;

• solidification/stabilization (S/S) of thermally-treated soil to reduce mobility of metals;

• review of S/S, during the remedial design, to determine if S/S alone would achieve remedial action goals; and

• development of soil cleanup goals during the remedial design.

The selected remedy established cleanup goals for contaminants in the ground water based on drinking water standards. The selected remedy eliminated the principal threat posed to human health and the environment by preventing further migration of contaminants to the ground water and by remediating ground water to drinking water standards. The 1987 ROD indicated that no elevated levels of contaminants were found in the pond on-site. Soil and ground water were found to be contaminated with the contaminants of concern (COCs) listed in Table 1.

Table 1—Ground Water and Soil Contaminants of Concern
Ground water and soil contaminants of concern
Benzo (a) pyrene.
Benzo (a) anthracene.
Benzo (b and/or k) fluoranthene.
Polychlorinated biphenyls (PCBs) (Aroclor 1254).
Benzene.
Trans-1,2-dichloroethylene.
Chromium.
Lead.
Toluene.
1,2-Dichlorobenzene.
1,1-Dichloroethane.

Treatability studies conducted during the remedial design determined that S/S alone would remediate contaminated soils. Based on these studies, the ROD was amended on July 13, 1993 to state that only S/S would be conducted, thermal treatment would not be needed. EPA issued another ROD amendment on September 9, 1998, changing the ground water remedy from pump and treat to monitored natural attenuation (MNA) and revising the ground water COCs to only include cadmium and lead, with respective cleanup goals of 5µg/L and 15µg/L. Soil leachate criteria were established in the 1993 AROD to protect the ground water.

Response Actions

In February 1992, EPA entered into a cooperative agreement with the U.S. Army Corps of Engineers (USACE) to perform the remedial design/remedial action (RD/RA). After the final design was completed, USACE awarded the RA contract to McLaren/Hart Environmental Engineering Corporation (McLaren/Hart) for solidification/stabilization of Site soils. McLaren/Hart mobilized to the field for full-scale soil treatment on January 16, 1994. Soil treatment was completed on April 23, 1994 followed by placement of a gravel cap over the treated soil, which was completed on August 5, 1994. The pre-final inspection, conducted on August 9, 1994, did not discover any significant outstanding items and therefore served as the final inspection. Both the site's Final Construction Report and the Interim Remedial Action Report were approved by EPA and SCDHEC on September 29, 1997. Quality control analytical sampling of the treated soil was conducted throughout the solidification activities. The quality assurance/quality control program was in conformance with EPA and State standards; therefore, EPA and the State determined that all analytical results were accurate to the degree needed to assure satisfactory execution of the RA and are consistent with the ROD and the RD plans and specifications.

Cleanup Goals

Site soils have been treated to prevent further leaching of contamination into the ground water. Additional sampling conducted by EPA showed only one remaining ground water COC that was consistently detected above drinking water standards in two small, localized areas, one of which was near drinking water standards. As a result of these soil and ground water findings, EPA issued an additional AROD on September 9, 1998, changing the ground water remedy from pump and treat, which was never implemented, to MNA. The Preliminary Close-out Report (September 14, 1998), and the Operation and Maintenance (O&M) Plan (September 1998) were approved by EPA and SCDHEC. The Preliminary Close-out Report found that there was no definable contaminant plume on site. In January of 2013, the EPA conducted a scientific evaluation of the durability and leachability of the monolith at the Site. The objective of the report was to determine the durability of the S/S wastes (the monolith) based on physical measurements (moisture content, bulk and dry density, permeability, wet/dry durability). The evaluation indicates that the monolith has remained stable in the environment during the 20 year period since completion of the remedial action. No evidence indicating any adverse change in physical condition was observed. Some evidence of the capacity for leaching of cement binder and COCs from the monolith was indicated; however, the leaching would be expected to be very minor and not likely indicative of a possibly adverse condition, either presently or long-term, or with regard to groundwater contamination. Testing and analyses supports the conclusion that COCs remain highly bound within the monolith and that leaching of these COCs is unlikely to adversely impact the surrounding soil and/or groundwater environment under current site conditions.

Operation and Maintenance

The 1998 AROD reported that long-term O&M of the remedy was not required. There were no O&M costs associated with the Site since the 2004 FYR. The declaration of covenants and restrictions on the property was made and entered into on October 11, 2001, by Pile Drivers, Inc, a South Carolina Corporation. Pile Drivers is the owner of the property in Charleston County, South Carolina, more specifically described in the Title of Real Estate record in the book W127 at page 390 in the Charleston County RMC Office. The declaration of covenants and restrictions to restrict use of the site soils and ground water states the following: “Pile Drivers hereby covenants for itself, its successors and assigns, that the Soil Treatment Area shall not be used for residential or agricultural purposes; prohibit activities, include but are not limited to: Filling; drilling; excavation; anchoring; removal of top soil, rock, or minerals; plowing; planting; cultivation (other than maintenance of the ground cover); and change of the topography in any manner.”

Five-Year Review

The remedy at the Geiger (C & M Oil) Site currently protects human health and the environment because exposure pathways that could result in unacceptable risks are being controlled. Soils have been cleaned up to industrial standards using S/S, the property is currently being used for industrial purposes, and ground water sampling results over multiple years led to decommissioning 27 monitoring wells. Five-year reviews (FYR) are statutorily required as long as waste is left on site that does not allow for unrestricted use and unlimited exposure. Three FYRs have already been completed and the next FYR is planned for FY 2014.

Community Involvement

On August 15, 2008, a public notice was published in the Post and Courier Announcing the commencement of the third FYR process for the Geiger site, providing contact information for EPA site staff, and inviting community participation. Copies of this document are available in the Site's public repository: St. Paul's Parish Library, 5151 Town Council Drive, Hollywood, SC 29449, where additional information about the Site can be found in CD format. Community involvement activities associated with the deletion will consist of issuing a deletion fact sheet, publishing a public notice in the local newspaper, updating the information repository, and providing the public an opportunity to comment.

Determination That the Site Meets the Criteria for Deletion in the NCP

The NCP (40 CFR 300.425(e)) states that a site may be deleted from the NPL when no further response action is appropriate. The implemented remedy achieves the degree of cleanup specified in the ROD and ROD Amendments for all pathways of exposure. All selected remedial action objectives and clean-up goals are consistent with agency policy and guidance. EPA, in consultation with the State of South Carolina, has determined that all required response actions have been implemented and no further response action by the responsible parties is appropriate.

V. Deletion Action

The EPA, with concurrence of the State of South Carolina through the South Carolina Department of Health and Environmental Control has determined that all appropriate response actions under CERCLA, other than operation, maintenance, monitoring and five-year reviews have been completed. Therefore, EPA is deleting the Site from the NPL.

Because EPA considers this action to be noncontroversial and routine, EPA is taking it without prior publication. This action will be effective January 6, 2014 unless EPA receives adverse comments by December 5, 2013. If adverse comments are received within the 30-day public comment period, EPA will publish a timely withdrawal of this direct Final Notice of Deletion before the effective date of the deletion, and it will not take effect. EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: September 23, 2013.
A. Stanley Meiburg,
Acting Regional Administrator, Region 4.

For the reasons set out in this document, 40 CFR part 300 is amended as follows:

PART 300—NATIONAL OIL AND HAZARDOUS SUBSTANCES POLLUTION CONTINGENCY PLAN

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

Appendix B [Amended]

2. Table 1 of Appendix B to part 300 is amended by removing “Geiger (C&M Oil)”, “Rantoules, South Carolina”.

[FR Doc. 2013-26512 Filed 11-4-13; 8:45 am]

BILLING CODE 6560-50-P